DEPARTMENT OF TRANSPORTATION

Federal Aviation Administration

14 CFR Part 71

[Docket No. FAA-2013-0961; Airspace Docket No. 13-AEA-13]

RIN 2120-AA66

Proposed Amendment of VOR Federal Airways V-35 and V-267; Eastern United States

AGENCY: Federal Aviation Administration (FAA), DOT.

ACTION: Notice of proposed rulemaking (NPRM).

SUMMARY: This action proposes to modify VHF omnidirectional range (VOR) Federal airways V-35 and V-276 due to the scheduled decommissioning of the Tyrone, PA, VORTAC facility, which provides navigation guidance for portions of the routes. Once the VORTAC is decommissioned, the FAA plans a waypoint to be established for point-to-point area navigation for continued safety and management within the National Airspace System.

DATES: Comments must be received on or before March 10, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0961 and Airspace Docket No. 13-AEA-13 at the beginning of your comments. You may also submit comments through the Internet at http://www.regulations.gov.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0961 and Airspace Docket No. 13-AEA-13) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0961 and Airspace Docket No. 13-AEA-13.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Persons interested in being placed on a mailing list for future NPRMs should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to modify VOR Federal airways V-35 and V-276 due to the planned decommissioning of the Tyrone, PA, VORTAC. The Tyrone VORTAC, which provides navigation signal guidance for portions of the routes, has been inoperable for a sustained period of time and is not planned for replacement. The FAA plans to establish a waypoint over the Tyrone VORTAC location that could be used for point-to-point area navigation (RNAV) once the VORTAC is decommissioned.

In light of the planned VORTAC decommissioning, the FAA conducted an analysis of the air traffic usage of V-35 and V-276 and found that some segments of both airways experienced low utilization in the general area of the Tyrone VORTAC. Consequently, the FAA is proposing to remove the underutilized segments in both airways.

V-35 extends between Dolphin, FL, and Syracuse, NY. Analysis of the V-35 traffic around the Tyrone VORTAC showed that the airway is rarely used in that area. Based on that analysis, the FAA proposes to remove that portion of the airway between Morgantown, WV and Philipsburg, PA. This would eliminate the V-35 route segments from Morgantown, WV, through Indian Head, PA, Johnstown, PA, and Tyrone, PA to Philipsburg, PA. As proposed, the modified V-35 would extend between Dolphin, FL, and Morgantown, WV; and between Philipsburg, PA, and Syracuse, NY. This would leave a gap in airway continuity between Morgantown and Philipsburg.

V-276 now extends between Erie, PA, and an intersection of radials from the Robbinsville, NJ, and Coyle, NJ, VORTACs (i.e., the PREPI intersection). Due to low air traffic usage, the FAA proposes to eliminate the segments of V-276 between Erie, PA, and the intersection of radials from the Philipsburg, PA, and Ravine, PA, VORTACs (i.e., RASHE intersection). The modified V-276 would thus extend from the RASHE intersection, then proceed along its currently charted track through Ravine, PA, Yardley, PA, and Robbinsville, NJ, to the PREPI intersection.

Where new radials are proposed in the route descriptions, below, both True and Magnetic degrees are stated. Otherwise, only True degrees are listed.

VOR Federal airways are published in paragraph 6010, of FAA Order 7400.9X dated August 7, 2013, and effective September 15, 2013, which is incorporated by reference in 14 CFR 71.1. The VOR Federal airways listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as required to preserve the safe and efficient flow of air traffic within the eastern United States.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010 Domestic VOR Federal Airways

V-35

From Dolphin, FL; INT Dolphin 266° and Cypress, FL, 110° radials; INT Cypress 110° and Lee County, FL, 138° radials; Lee County; INT Lee County 326° and St. Petersburg, FL, 152° radials; St. Petersburg; INT St. Petersburg 350° and Cross City, FL, 168° radials; Cross City; Greenville, FL; Pecan, GA; Macon, GA; INT Macon 005° and Athens, GA, 195° radials; Athens; Electric City, SC; Sugarloaf Mountain, NC; Holston Mountain, TN; Glade Spring, VA; Charleston, WV; INT Charleston 051° and Elkins, WV, 264° radials; Clarksburg, WV to Morgantown, WV. From Philipsburg, PA; Stonyfork, PA; Elmira, NY; Syracuse, NY. The airspace below 2,000 feet MSL outside the United States is excluded. The portion outside the United States has no upper limit.

V-276

From INT Philipsburg, PA 132°(T)/142°(M) and Ravine, PA 279°(T)/290°(M) radials; Ravine; Yardley, PA; Robbinsville, NJ; to INT Robbinsville 112° and Coyle, NJ, 090° radials.

Issued in Washington, DC, on January 15, 2014.
Gary A. Norek,
Manager, Airspace Policy and Regulations Group.

[FR Doc. 2014-01180 Filed 1-21-14; 8:45 am]

BILLING CODE 4910-13-P